DEPARTMENT OF TRANSPORTATION

Office of the Secretary

Aviation Proceedings, Agreements Filed During the Week Ending October 20, 2000

The following Agreements were filed with the Department of Transportation under the provisions of 49 U.S.C. Sections 412 and 414. Answers may be filed within 21 days after the filing of the application.

Docket Number: OST-2000-8113.

Date Filed: October 17, 2000.

Parties: Members of the International Air Transport Association.

Subject: CTC COMP 0314 dated 13 October 2000, Resolution 033f—Local Currency Rate Changes—Pakistan, Intended effective date: 16 October 2000.

Docket Number: OST-2000-8120.

Date Filed: October 18, 2000.

Parties: Members of the International Air Transport Association.

Subject: PTC COMP 0695 (Re-issue) dated 6 October 2000, Mail Vote 088—Resolution 010j, Special Passenger Amending Resolution to/from Cyprus, Intended effective date: 1 January 2001.

Docket Number: OST-2000-8130.

Date Filed: October 18, 2000.

Parties: Members of the International Air Transport Association.

Subject: PTC COMP 0706 dated 17 October 2000, Mail Vote 091—Resolution 024d (Amending), Currency Names, Codes, Rounding Units and Acceptability of Currencies, Intended effective date: 1 December 2000.

Docket Number: OST-2000-8166.

Date Filed: October 20, 2000.

Parties: Members of the International Air Transport Association.

Subject: PTC23 EUR-JK 0059 dated 3 October 2000, Europe-Japan/Korea Resolutions r1-r-48, Technical Correction PTC23 EUR-JK 0060 dated 10 October 2000, Minutes—PTC23 EUR-JK 0061 dated 13 October 2000, Tables—PTC23 EUR-JK FARES 0023 dated 6 October 2000, Intended effective date: 1 April 2001.

Docket Number: OST-2000-8167.

Date Filed: October 20, 2000.

Parties: Members of the International Air Transport Association.

Subject: PTC23 EUR-SWP 0048 dated 13 October 2000, Europe-South West Pacific Resolutions r1-r23, Minutes—PTC23 EUR-SWP 0045 dated 3 October 2000, Tables—PTC23 EUR-SWP FARES 0019 dated 17 October 2000, Intended effective date: 1 April 2001.

Dorothy Y. Beard,
Federal Register Liaison.

[FR Doc. 00-29234 Filed 11-14-00; 8:45 am]

BILLING CODE 4910-62-P